DEPARTMENT OF THE INTERIOR

Bureau of Land Management

[ID-090-01-1020PG]

Notice of Meeting

AGENCY: Lower Snake River District, Bureau of Land Management, Interior.

ACTION: Meeting notice.

SUMMARY: The Lower Snake River District Resource Advisory Council will meet in Boise. Potential agenda topics are off highway vehicle use, sage grouse habitat management, wild horse roundup and adoption and other resource management issues.

DATES: February 14, 2001. The meeting will begin at 9 a.m. Public comment periods will be held at 9:30 a.m. and 3:30 p.m.

ADDRESSES: The meeting will be held at the Lower Snake River District Office, located at 3948 Development Avenue, Boise, Idaho.

FOR FURTHER INFORMATION CONTACT: Mary Jones, Lower Snake River District Office (208-384-3305).

Dated: January 2, 2001.
Daryl L. Albiston,
Acting District Manager.

[FR Doc. 01-1130 Filed 1-12-01; 8:45 am]

BILLING CODE 4310-66-M